ENVIRONMENTAL PROTECTION AGENCY

[FRL-8476-3]

Proposed Settlement Agreement, Clean Air Act Citizen Suit

AGENCY: Environmental Protection Agency (EPA).

ACTION: Notice of Proposed Settlement Agreement; Request for Public Comment.

SUMMARY: In accordance with section 113(g) of the Clean Air Act, as amended (“Act”), 42 U.S.C. 7413(g), notice is hereby given of a proposed settlement agreement, to address a lawsuit filed by Rocky Mountain Clean Air Action (“RMCAA”) in the United States Court of Appeals for the D.C. Circuit: Rocky Mountain Clean Air Action v. EPA, No. 07-1012 (D.C. Cir.). Petitioner filed a petition for review challenging EPA's final rule entitled “Final Extension of the Deferred Effective Date for 8-Hour Ozone National Ambient Air Quality Standards (“NAAQS”) for Early Action Compact Areas,” 71 FR 69022 (Nov. 29, 2006). Under the terms of the proposed settlement agreement, deadlines have been established for EPA and the State of Colorado to take specific actions related to the Denver Early Action Compact (“Denver EAC”) area. Petitioner's sole remedy if EPA or the State fails to take one of these actions is to request the court to lift the stay and to set a briefing schedule.

DATES: Written comments on the proposed settlement agreement must be received by October 31, 2007.

ADDRESSES: Submit your comments, identified by Docket ID number EPA-HQ-OGC-2007-0991, online at http://www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Jan Tierney, Air and Radiation Law Office (2344A), Office of General Counsel, U.S. Environmental Protection Agency, 1200 Pennsylvania Ave., NW., Washington, DC 20460; telephone: (202) 564-5598; fax number (202) 564-5603; e-mail address: tierney.jan@epa.gov.

SUPPLEMENTARY INFORMATION:

I. Additional Information About the Proposed Settlement Agreement

This case challenges the rule entitled “Final Extension of the Deferred Effective Date for 8-Hour Ozone National Ambient Air Quality Standards for Early Action Compact Areas,” 71 FR 69022 (Nov. 29, 2006). Specifically, Petitioner challenges EPA's action to issue a further deferral of the effective date of the 8-hour ozone nonattainment designation for the Denver EAC area from December 31, 2006 to July 1, 2007. Under the terms of the proposed settlement, EPA will review and take final action on a regulation submitted by the State of Colorado to EPA in August 2007 (“Regulation No. 7”) by March 25, 2008. Additionally, by November 20, 2007, EPA will evaluate the 8-hour ozone air quality data for the Denver EAC area from 2005, 2006 and the first three quarters of 2007 and if the data do not indicate a violation of the 8-hour ozone standard, EPA will issue a final rule further extending the deferral of the effective date of the nonattainment designation until April 15, 2008. If the data do indicate a violation of the 8-hour ozone standard, EPA will take no further action and the nonattainment designation will be effective November 20, 2007. Based on whether the area has an effective nonattainment or an effective attainment designation, the State of Colorado has to submit either an attainment demonstration or a maintenance SIP revision for the Denver EAC to EPA no later than July 1, 2009. If the State submits an attainment demonstration SIP revision, EPA must sign a notice of final agency action approving or disapproving the State of Colorado SIP revision by October 1, 2010. If either EPA or the State fail to meet any of these deadlines, RMCAA's sole remedy is to request the court to lift the stay of the litigation and to set a briefing schedule.

For a period of thirty (30) days following the date of publication of this notice, the Agency will receive written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Act. Unless EPA or the Department of Justice determines, based on any comment which may be submitted, that consent to the settlement agreement should be withdrawn, the terms of the agreement will be affirmed.

II. Additional Information About Commenting on the Proposed Settlement Agreement

A. How Can I Get A Copy Of the Settlement Agreement?

The official public docket for this action (identified by Docket ID No. EPA-HQ-OGC-2007-0991) contains a copy of the proposed settlement agreement. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use the http://www.regulations.gov to submit or view public comments, access the index listing of the contents of the official public docket, and to access those documents in the public docket that are available electronically. Once in the system, select “search,” then key in the appropriate docket identification number.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through http://www.regulations.gov, your e-mail address is automatically captured and included as part of the comment that is placed in the official public docket, and made available in EPA's electronic public docket.

Dated: September 25, 2007.
Richard B. Ossias,
Associate General Counsel.

[FR Doc. E7-19333 Filed 9-28-07; 8:45 am]

BILLING CODE 6560-50-P